DEPARTMENT OF HEALTH AND HUMAN SERVICES

National Institutes of Health

Consensus Development Conference on Adjuvant Therapy for Breast Cancer

Notice is hereby given of the National Institutes of Health (NIH) Consensus Development Conference on “Adjuvant Therapy for Breast Cancer,” which will be held November 1-3, 2000, in the NIH's Natcher Conference Center, 9000 Rockville Pike, Bethesda, Maryland 20892. The conference begins at 8:00 am on November 1 and 2, and at 9:00 am on November 3 and is open to the public.

Each year, more than 180,000 women in the United States are diagnosed with breast cancer, the most common type of non-skin cancer among women in this country. Through continuing research into new treatment methods, women with breast cancer now have more effective treatment options than ever before. Studies have shown that adjuvant therapy—treatment to kill cancer cells that may have begun to spread, or metastasize, from the breast tumor—given in addition to surgery or other primary therapies increases a woman's chance of long-term survival.

Two types of systemic adjuvant therapy, either alone or in combination, are used for breast cancer. Adjuvant chemotherapy involves a combination of anticancer drugs. Adjuvant hormone therapy deprives cancer cells of the female hormone estrogen, which some breast cancer cells need to grow. In addition to these systemic therapies, radiation therapy is sometimes used as a local adjuvant treatment to help destroy breast cancer cells that have spread to nearby tissues.

The rapid pace of discovery in this area continues to broaden the knowledge base from which informed treatment decisions can be made. The purpose of this conference is to clarify, for clinicians, patients, and the general public, various issues regarding the use of adjuvant therapy for breast cancer. After 1½ days of presentations and audience discussion of the latest adjuvant therapy research, an independent, non-Federal consensus development panel will weigh the scientific evidence and draft a statement that will be presented to the conference audience on the third day. The consensus development panel's statement will address the following key questions:

Which factors should be used to select systemic adjuvant therapy?

For which patients should adjuvant hormonal therapy be recommended?

For which patients should adjuvant chemotherapy be recommended? Which agents should be used and at what dose or schedule?

For which patients should postmastectomy radiotherapy be recommended?

How do side effects and quality-of-life issues factor into individual decision-making about adjuvant therapy?

What are promising new research directions for adjuvant therapy?

On the final day of the conference, the panel's draft statement will be read in public, at which time members of the public are invited to offer comments on the draft.

The primary sponsors of this meeting are the National Cancer Institute and the NIH Office of Medical Applications of Research. Cosponsors include the National Institute of Nursing Research and the NIH Office of Research on Women's Health.

This is the 114th Consensus Development Conference held by the NIH in the 23-year history of the Consensus Development Program. Advance information about the conference and conference registration materials may be obtained from Prospect Associates of Silver Spring, Maryland, by calling (301) 592-3320 or by sending e-mail to breastcancer@prospectassoc.com. Prospect Associates' address is 10720 Columbia Pike, Suite 500, Silver Spring, Maryland 20901-4437. A conference agenda and registration information is also available on the NIH Consensus Program Web site at http://consensus.nih.gov.

Dated: October 13, 2000.
Ruth L. Kirschstein,
Principal Deputy Director, National Institutes of Health.

[FR Doc. 00-27357 Filed 10-24-00; 8:45 am]

BILLING CODE 4140-01-P